DEPARTMENT OF HOMELAND SECURITY

Coast Guard

[Docket No. USCG-2015-0805]

National Offshore Safety Advisory Committee

AGENCY: Coast Guard, DHS.

ACTION: Notice of Federal Advisory Committee meeting.

SUMMARY: The National Offshore Safety Advisory Committee and its Subcommittee will hold a public meeting in Katy, TX to discuss the safety of operations and other matters affecting the offshore oil and gas industry. These meetings are open to the public.

DATES: Subcommittees of the National Offshore Safety Advisory Committee will meet on Wednesday, November 18, 2015 from 1 p.m. to 4 p.m. and the full Committee will meet on Thursday, November 19, 2015, from 8:30 a.m. to 4:30 p.m. (All times are Central Standard Time). These meetings may end early if the Committee has completed its business, or they may be extended based on the number of public comments.

ADDRESSES: The meetings will be held at the Det Norske Veritas GL conference facility located at 1400 Ravello Drive, Katy, TX 77449.

For information on facilities or services for individuals with disabilities, or to request special assistance at the meetings, contact the individuals listed in FOR FURTHER INFORMATION CONTACT section, as soon as possible.

To facilitate public participation, we are inviting public comment on the issues to be considered by the Committee as listed in the “Agenda” section below. Written comments may be submitted using the Federal eRulemaking Portal at http://www.regulations.gov. If your material cannot be submitted using http://www.regulations.gov, contact the person in the FOR FURTHER INFORMATION CONTACT section of this document for alternate instructions.

Instructions: All submissions received must include the words “Department of Homeland Security” and the docket number for this action. Comments received will be posted without alteration at http://www.regulations.gov, including any personal information provided. You may review a Privacy Act notice regarding the Federal Docket Management System in the March 24, 2005, issue of the Federal Register (70 FR 15086).

Docket: For access to the docket to read documents or comments related to this notice, go to http://www.regulations.gov, insert USCG-2015-0805 in the Search box, press Enter, and then click on the item you wish to view.

A public oral comment period will be held during the meeting on November 19, 2015, and speakers are requested to limit their comments to 3 minutes. Contact one of the individuals listed below to register as a speaker.

FOR FURTHER INFORMATION CONTACT: Commander Jose Perez, Designated Federal Officer of the National Offshore Safety Advisory Committee, Commandant (CG-OES-2), U.S. Coast Guard, 2703 Martin Luther King Jr. Avenue SE. Stop 7509, Washington, DC 20593-7509; telephone (202) 372-1410, fax (202) 372-8382 or email jose.a.perez3@uscg.mil, or Mr. Pat Clark, telephone (202) 372-1358, fax (202) 372-8382 or email Patrick.w.clark@uscg.mil.

SUPPLEMENTARY INFORMATION: Notice of this meeting is given under the Federal Advisory Committee Act, Title 5 United States Code, Appendix. The National Offshore Safety Advisory Committee provides advice and recommendations to the Department of Homeland Security on matters and actions concerning activities directly involved with or in support of the exploration of offshore mineral and energy resources insofar as they relate to matters within U.S. Coast Guard jurisdiction.

A copy of all meeting documentation will be available at https://homeport.uscg.mil/nosac no later than November 1, 2015. Alternatively, you may contact Mr. Pat Clark as noted in the FOR FURTHER INFORMATION CONTACT section above.

Agenda

Day 1

The National Offshore Safety Advisory Subcommittee on Cyber Security on the Outer Continental Shelf will meet on November 18, 2015 from 1 p.m. to 2 p.m. to review, discuss and formulate recommendations. Following this Subcommittee meeting, the Lifeboat Safety Subcommittee will meet from 2 p.m. to 3 p.m. and then the Towing of Mobile Offshore Drilling Unit Subcommittee will meet from 3 p.m. to 4 p.m.

Day 2

The National Offshore Safety Advisory full Committee will hold a public meeting on November 19, 2015 from 8:30 a.m. to 4:30 p.m. to review and discuss the progress of the Subcommittees and any reports and recommendations received from the above listed Subcommittees from their deliberations on November 18, 2015. The Committee will then use this information and consider public comments in formulating recommendations to the U.S. Coast Guard. Public comments or questions will be taken at the discretion of the Designated Federal Officer during the discussion and recommendation portions of the meeting as well as during the public comment period, see Agenda item (4).

A complete agenda for November 19, 2015 Committee meeting is as follows:

(1) General Administration, acceptance of minutes from the April 2015 NOSAC public meeting.

(2) Current Business—Presentation and discussion of Subcommittee updates and any final reports to include recommendations from the Subcommittees on Cyber Security, Lifeboat Safety, and Towing of Mobil Offshore Drilling Units.

(3) New Business—Introduction of new Task Statements by the Coast Guard:

a) Offshore Well Intervention Operations.

(4) Presentations and discussions on the following matters:

(a) Marine Well Containment;

(b) The Bureau of Safety and Environmental Enforcement's Risk Based Inspection Program;

(5) Public comment period.

The agenda, any draft final reports, new task statements and presentations will be available approximately 7 days prior to the meeting at the https://homeport.uscg.mil/nosac Web site or by contacting Mr. Pat Clark in the FOR FURTHER INFORMATION CONTACT.

Minutes

Meeting minutes from this public meeting will be available for public view and copying within 90 days following the close of the meeting at the https://homeport.uscg.mil/nosac Web site.

Dated: October 13, 2015.
J.G. Lantz,
Director of Commercial Regulations and Standards.

[FR Doc. 2015-27419 Filed 10-27-15; 8:45 am]

BILLING CODE 9110-04-P